DEPARTMENT OF HEALTH AND HUMAN SERVICES

Centers for Disease Control and Prevention

[30Day-23-1317]

Agency Forms Undergoing Paperwork Reduction Act Review

In accordance with the Paperwork Reduction Act of 1995, the Centers for Disease Control and Prevention (CDC) has submitted the information collection request titled “National Healthcare Safety Network (NHSN) Coronavirus (COVID-19) Surveillance in Healthcare Facilities” to the Office of Management and Budget (OMB) for review and approval. CDC previously published a “Proposed Data Collection Submitted for Public Comment and Recommendations” notice on September 12, 2022, to obtain comments from the public and affected agencies. CDC received two comments related to the previous notice. This notice serves to allow an additional 30 days for the public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Healthcare Safety Network (NHSN) Coronavirus (COVID-19) Surveillance in Healthcare Facilities (OMB Control No. 0920-1317, Exp. 1/31/2024)—Revision—National Center for Emerging and Zoonotic Infectious Diseases (NCEZID), Centers for Disease Control and Prevention (CDC).

Background and Brief Description

Hospitals are key partners in the U.S. response to COVID-19. The response is locally executed, state managed, and federally supported. At the Federal level, the U.S. Department of Health & Human Services COVID-19 Response Function, the White House Coronavirus Response Team, and the Centers for Disease Control & Prevention (CDC) COVID-19 Response work together to support the effective operations of the American healthcare system. This collection initially began at the end of March 2020 through a letter from then Vice President Pence to the nation's 4,700 hospitals, asking them to submit data daily on the number of patients tested for COVID-19, as well as information on bed capacity and requirements for other supplies. (https://www.cms.gov/files/document/32920-hospital-letter-vice-president-pence.pdf).

CDC's National Healthcare Safety Network (NHSN) COVID-19 Module (OMB Control No. 0920-1290) was initially approved March 26, 2020 for the collection of hospital COVID-19 data. The NHSN COVID-19 Module also collects COVID-19 data from long-term care facilities and dialysis centers, and was later approved as OMB Control No. 0920-1317. Beginning July 2020, at the request of the White House Coronavirus Task Force, collection of information from hospitals was transferred to the Department of Health and Human Services/Administration for Strategic Preparedness and Response (HHS/ASPR) and was housed in the TeleTracking portal.

This Revision request is being submitted so that the National Healthcare Safety Network (NHSN) will again assume responsibility for collection of COVID-19 data from hospitals beginning in January 2023. CDC requests OMB approval for an estimated 4,477,073 annual burden hours.

Estimated Annualized Burden Hours
Type of respondent | Form name | Number of respondents | Number responses per respondent | Average burden per response (in hours)
LTCF personnel | NHSN and Secure Access Management Services (SAMS) enrollment | 11,500 | 1 | 60/60
LTCF personnel | COVID-19 Module, Long Term Care Facility: Resident Impact and Facility Capacity form (57.144) | 11,621 | 52 | 40/60
Business and financial operations occupations | COVID-19 Module, Long Term Care Facility: Resident Impact and Facility Capacity form (57.144) | 1,870 | 52 | 40/60
State and local health department occupations | COVID-19 Module, Long Term Care Facility: Resident Impact and Facility Capacity form (57.144) | 1,870 | 52 | 40/60
LTCF personnel | COVID-19 Module, Long Term Care Facility Resident Impact and Facility Capacity form (57.144) (retrospective data entry) | 5,811 | 1 | 40/60
Business and financial operations occupations | COVID-19 Module, Long Term Care Facility Resident Impact and Facility Capacity form (57.144) (retrospective data entry) | 935 | 1 | 40/60
State and local health department occupations | COVID-19 Module, Long Term Care Facility Resident Impact and Facility Capacity form (57.144) (retrospective data entry) | 935 | 1 | 40/60
LTCF personnel | COVID-19 Module, Long Term Care Facility: Staff and Personnel Impact form (57.145) | 11,621 | 52 | 15/60
Business and financial operations occupations | COVID-19 Module, Long Term Care Facility: Staff and Personnel Impact form (57.145) | 1,870 | 52 | 15/60
State and local health department occupations | COVID-19 Module, Long Term Care Facility: Staff and Personnel Impact form (57.145) | 1,870 | 52 | 15/60
LTCF personnel | COVID-19 Module, Long Term Care Facility Staff and Personnel Impact form (57.145) (retrospective data entry) | 5,811 | 1 | 15/60
Business and financial operations occupations | COVID-19 Module, Long Term Care Facility Staff and Personnel Impact form (57.145) (retrospective data entry) | 935 | 1 | 15/60
State and local health department occupations | COVID-19 Module, Long Term Care Facility Staff and Personnel Impact form (57.145) (retrospective data entry) | 935 | 1 | 15/60
LTCF personnel | COVID-19 Module, Long-Term Care Facility: Resident Therapeutics (57.158) | 11,621 | 52 | 10/60
Business and financial operations occupations | COVID-19 Module, Long-Term Care Facility: Resident Therapeutics (57.158) | 1,870 | 52 | 10/60
State and local health department occupations | COVID-19 Module, Long-Term Care Facility: Resident Therapeutics (57.158) | 1,870 | 52 | 10/60
LTCF personnel | LTCF VA Resident COVID-19 Event Form | 188 | 36 | 35/60
LTCF personnel | LTCF VA Staff and Personnel COVID-19 Event Form | 188 | 36 | 20/60
Facility personnel | Weekly Healthcare Personnel COVID-19 Vaccination Cumulative Summary | 12,600 | 52 | 90/60
LTCF personnel | Weekly Resident COVID-19 Vaccination Cumulative Summary for Long-Term Care Facilities | 16,864 | 52 | 75/60
Microbiologist (IP) | Weekly Patient COVID-19 Vaccination Cumulative Summary for Dialysis Facilities | 7,700 | 52 | 75/100
LTCF personnel | Monthly Reporting Plan Form for Long-term Care Facilities | 16,864 | 9 | 5/60
Microbiologist (IP) | Healthcare Personnel Safety Monthly Reporting Plan—completed by Dialysis Facilities | 7,700 | 9 | 5/60
Microbiologist (IP) | Healthcare Personnel Safety Monthly Reporting Plan—completed by Inpatient Psychiatric Facilities | 394 | 12 | 5/60
Microbiologist (IP) | COVID-19 Dialysis Component Form | 4,900 | 104 | 20/60
Hospitals | NHSN COVID-19 Hospital Module | 6,000 | 365 | 90/60
Infusion Centers and Outpatient Clinics reporting Inventory & use of therapeutics (MABs) | NHSN COVID-19 Hospital Module | 400 | 52 | 15/60

Jeffrey M. Zirger,
Lead, Information Collection Review Office, Office of Scientific Integrity, Office of Science, Centers for Disease Control and Prevention.

[FR Doc. 2022-25995 Filed 11-28-22; 8:45 am]

BILLING CODE 4163-18-P